INTERNATIONAL TRADE COMMISSION

Sunshine Act Meeting

Agency Holding the Meeting: International Trade Commission.

Time and Date: December 29, 2003, at 11 a.m.

Place: Room 101, 500 E Street, SW., Washington, DC 20436. Telephone: (202) 205-2000.

Status: Open to the public.

Matters to be Considered:

1. Agenda for future meetings: none.

2. Minutes.

3. Ratification List.

4. Inv. No. 731-TA-1059 (Preliminary) (Hand Trucks from China)—briefing and vote. (The Commission is currently scheduled to transmit its determination to the Secretary of Commerce on December 29, 2003; Commissioners' opinions are currently scheduled to be transmitted to the Secretary of Commerce on or before January 6, 2004.)

5. Outstanding action jackets: none.

In accordance with Commission policy, subject matter listed above, not disposed of at the scheduled meeting, may be carried over to the agenda of the following meeting.

By order of the Commission.
Issued: December 17, 2003
Marilyn R. Abbott,
Secretary to the Commission.

[FR Doc. 03-31509 Filed 12-17-03; 4:33 pm]

BILLING CODE 7020-02-P